DEPARTMENT OF TRANSPORTATION

Federal Aviation Administration

14 CFR Part 39

[Docket No. FAA-2009-1008; Directorate Identifier 2008-SW-62-AD; Amendment 39-16063; AD 2009-22-10]

RIN 2120-AA64

Airworthiness Directives; Eurocopter France (ECF) Model AS332C, AS332L, AS332L1, AS332L2, SA330F, SA330G, and SA330J Helicopters

AGENCY: Federal Aviation Administration (FAA), Department of Transportation (DOT).

ACTION: Final rule; request for comments.

SUMMARY: We are adopting a new airworthiness directive (AD) for the specified ECF helicopters. This AD results from a mandatory continuing airworthiness information (MCAI) AD issued by the European Aviation Safety Agency (EASA), the Technical Agent for the aviation authority of France. The MCAI AD states there have been two cases of failure of the screw that secures the main rotor blade (blade) deicing system distributor retaining clamp (clamp). Analysis revealed that these failures were the result of insufficient clearance of the screw and the clamp assembly causing the screw to bend and also by some screws having nonconforming material hardness. Also, some of the screw heads were missing a lock-wiring hole preventing the use of lock-wiring between the screw head and the nut.

These actions are intended to detect failure of the clamp attachment screw leading to damage to the main or tail rotor blades and risk to persons on the ground by impact from a departed screw or clamp.

DATES: This AD becomes effective on December 29, 2009.

The incorporation by reference of certain publications is approved by the Director of the Federal Register as of December 29, 2009.

We must receive comments by February 12, 2010.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining the Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is stated in the ADDRESSES section of this AD. Comments will be available in the AD docket shortly after receipt.

FOR FURTHER INFORMATION CONTACT: DOT/FAA Southwest Region, J.R. Holton, Jr., ASW-112, Aviation Safety Engineer, Rotorcraft Directorate, Safety Management Group, 2601 Meacham Blvd., Fort Worth, Texas 76137, telephone (817) 222-4964, fax (817) 222-5961.

SUPPLEMENTARY INFORMATION:

Discussion

EASA, which is the Technical Agent for the Member States of the European Community, has issued EASA AD 2009-0003R1, dated January 13, 2009, to correct an unsafe condition for the specified Eurocopter model helicopters. That EASA AD superseded EASA AD 2009-003-E, dated January 6, 2009, which superseded EASA AD 2008-0162-E, dated August 26, 2008, which superseded Direction générale de l'aviation civile (DGAC) AD UF-2008-029, dated August 21, 2008.

EASA reports two cases of failure of the screw that secures the blade clamp. Analyses revealed that these failures of the screw were the result of assembly stress in the screw head and nonconforming screw hardness. Also, in some cases, the screw head was missing a lock-wiring hole making it impossible to install a safety-wire between the screw head and the nut. Failure of the clamp attachment screw can lead to damage to the main or tail rotor blades and is a risk for persons on the ground.

You may obtain further information by examining the DGAC and MCAI ADs and any related service information in the AD docket.

Related Service Information

Eurocopter has issued Emergency Alert Service Bulletin (ASB) No. 30.00.66 for the Model AS332C, C1, L, and L1; and No. 30.20 for the Model SA330J, F, and G, both Revision 1 and both dated August 21, 2008. The ASBs specify removing the retaining clamp from the distributor, checking the blade clamp and attachment screw for interference between the screw head and the clamp, checking for a crack in the shank of the screw, checking for a lock-wiring hole in the screw, and identifying the clamp with a “V.” The actions described in the EASA MCAI AD are intended to correct the same unsafe condition as that identified in the service information.

FAA's Evaluation and Unsafe Condition Determination

These helicopters have been approved by the aviation authority of France, and are approved for operation in the United States. Pursuant to our bilateral agreement with France, EASA, the Technical Agent for France, has notified us of the unsafe condition described in the EASA MCAI AD. We are issuing this AD because we evaluated all information provided by the EASA and determined the unsafe condition exists and is likely to exist or develop on other helicopters of these same type designs.

Differences Between This AD and the MCAI AD

We describe the action taken in the AD as an inspection rather than a check.

Costs of Compliance

We estimate that this AD will affect about 16 helicopters of U.S. registry. We also estimate that it will take about 3 work-hours per helicopter to inspect the blade clamp and attachment screw and replace the screw on each helicopter. The average labor rate is $80 per work-hour. Required parts will cost about $200 per helicopter. Based on these figures, we estimate the cost of this AD on U.S. operators will be $7,040, assuming the clamp and attachment screw are replaced on each helicopter.

FAA's Determination of the Effective Date

An unsafe condition exists that requires the immediate adoption of this AD. We find the risk to the flying public justifies waiving notice and comment prior to adoption of this rule because failure of the clamp attachment screw can cause separation of the clamp and screw and damage to the main or tail rotor blades. Therefore, we have determined that notice and opportunity for public comment before issuing this AD are impracticable and that good cause exists for making this amendment effective in fewer than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2009-1008; Directorate Identifier 2008-SW-62-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-22-10 Eurocopter France: Amendment 39-16063. Docket No. FAA-2009-1008; Directorate Identifier 2008-SW-62-AD.

Effective Date

(a) This airworthiness directive (AD) becomes effective on December 29, 2009.

Other Affected ADs

(b) None.

Applicability

(c) This AD applies to Model AS332C, AS332L, AS332L1, AS332L2, SA330F, SA330G, and SA330J helicopters with a main rotor blade (blade) de-icing system distributor retaining clamp (clamp), part number (P/N) 225000-18454, or P/N D18454, installed, certificated in any category.

Reason

(d) The mandatory continuing airworthiness information (MCAI) states that there have been two cases of failure of the screw that secures the blade clamp. Examination revealed that these failures were the result of assembly stress in the screw head and nonconforming hardness of the affected screws. Also, in some cases, the lock-wiring hole was missing from the screw head making it impossible to install safety wire between the screw head and the nut.

Actions and Compliance

(e) Inspect each clamp within 50 hours time-in-service (TIS), without exceeding 3 months, for each clamp with an attachment screw that is not welded to the barrel, or within 20 hours TIS, without exceeding 1 month, for each clamp with an attachment screw that is welded to the barrel as follows, unless already accomplished:

(1) Remove the clamp from the distributor, as depicted in Figure 2 and by following paragraph 2.B.2.a. of the Accomplishment Instructions, in Eurocopter Emergency Alert Service Bulletin No. 30.00.66, Revision 1, dated August 21, 2008 (ASB 332) for the Model AS332 C, C1, L, L1 helicopters or Eurocopter Emergency Alert Service Bulletin No. 30.20, Revision 1, dated August 21, 2008 (ASB 330) for the Model SA330 J, F, and G helicopters.

Note: The service bulletin references 3 documents: No. 30.00.66 for Model AS332 helicopters, No. 30.00.26 for Model AS532 helicopters, and No. 30.20 for Model SA330 helicopters. This AD does not reference No. 30.00.26 because the Model AS532 helicopters are not type certificated in the United States. 14 CFR part 39 only allows the FAA to issue ADs against type certificated products.

(2) Measure the clearance between the screw head and the clamp as depicted in Figure 1 and by following paragraph 2.B.2.b. of the Accomplishment Instructions of ASB 332 or ASB 330, as appropriate for your model helicopter. If the clearance is less than 1 millimeter, rework the clamp until the clearance is between 1 and 2 millimeters.

(3) Inspect the screw for a crack and for a safety-wire hole in the head of the screw as depicted in Figure 2 and by following paragraph 2.B.2.c. of the Accomplishment Instructions of ASB 332 or ASB 330, as appropriate for your model helicopter.

(i) If there is a crack in the screw, before further flight, replace the screw.

(ii) If there is no safety-wire hole in the head of the screw, before further flight, either replace the screw with a screw having a safety wire hole or drill a hole as depicted in Figure 2, Detail D, of either ASB 332 or ASB 330, as appropriate for your model helicopter.

(4) If there is a P/N on the clamp, vibro-engrave the letter “V” after the P/N on the band of the clamp, as depicted in Detail G of Figure 4 of either ASB 332 or ASB 330, as appropriate for your model helicopter. If there is no P/N marked on the clamp, vibro-engrave the letter “V” on the band of the clamp near to the screw head.

(5) Safety the clamp as shown in Figure 3 of either ASB 332 or ASB 330, as appropriate for your model helicopter.

Differences Between This AD and the MCAI AD

(f) We refer to the actions required by the AD as inspections rather than checks.

Other Information

(g) Alternative Methods of Compliance (AMOCs): The Manager, Safety Management Group, ATTN: DOT/FAA Southwest Region, J. R. Holton, Jr., ASW-112, Aviation Safety Engineer, Rotorcraft Directorate, 2601 Meacham Blvd., Fort Worth, Texas 76137, telephone (817) 222-4964, fax (817) 222-5961, has the authority to approve AMOCs for this AD, if requested using the procedures found in 14 CFR 39.19.

Related Information

(h) EASA AD No. 2009-0003R1, dated January 13, 2009.

Joint Aircraft System/Component (JASC) Code

(i) JASC Code 3000, Ice and Rain Protection System.

Material Incorporated by Reference

(j) You must use the specified portions of Eurocopter Emergency Alert Service Bulletin 30.00.66 for the AS332 Model C, C1, L, and L1 helicopters and No. 30.20 for the Model J, F, and G helicopters, both Revision 1, both dated August 21, 2008, to do the actions required.

(1) The Director of the Federal Register approved the incorporation by reference of this service information under 5 U.S.C. 552(a) and 1 CFR part 51.

(2) For service information identified in this AD, contact American Eurocopter Corporation, 2701 Forum Drive, Grand Prairie, TX 75053-4005, telephone (800) 232-0323, fax (972) 641-3710, or at http://www.eurocopter.com.

(3) You may review copies at the FAA, Office of the Regional Counsel, Southwest Region, 2601 Meacham Blvd.; or at the National Archives and Records Administration (NARA). For information on the availability of this material at NARA, call (202) 741-6030, or go to: http://www.archives.gov/federal-register/cfr/ibr-locations.html.

Issued in Fort Worth, Texas, on October 21, 2009.
Mark R. Schilling,
Acting Manager, Rotorcraft Directorate, Aircraft Certification Service.

[FR Doc. E9-26118 Filed 12-11-09; 8:45 am]

BILLING CODE 4910-13-P